DEPARTMENT OF COMMERCE

National Institute of Standards and Technology

[Docket No: 130508459-3922-02]

Possible Models for the Administration and Support of Discipline-Specific Guidance Groups for Forensic Science

AGENCY: National Institute of Standards and Technology (NIST), United States Department of Commerce.

ACTION: Notice, extension of comment period.

SUMMARY: NIST is extending the deadline for submitting comments relating to Possible Models for the Administration and Support of Discipline-Specific Guidance Groups for Forensic Science. Due to the lack of availability of information posted on the NIST Web site, and the lack of NIST staff to respond to questions during the recent government shutdown due to a lapse in appropriations, the public may not have been able to formulate or submit their input. To allow the public sufficient time to formulate and submit their comments, NIST is extending the comment period from 11:59 p.m. Eastern Time, November 12, 2013 to 11:59 p.m. Eastern Time on November 26, 2013.

DATES: Comments must be received no later than 11:59 p.m. Eastern Time, November 26, 2013.

ADDRESSES: Written comments may be submitted by mail to the National Institute of Standards and Technology, c/o Susan Ballou, 100 Bureau Drive, Mailstop 8102, Gaithersburg, MD 20899. Electronic comments may be sent to susan.ballou@nist.gov. Electronic submissions may be in any of the following formats: HTML, ASCII, Word, rtf, or PDF. All email messages and comments received are a part of the public record and will be made available to the public generally without change on the NIST Law Enforcement Standards Office Web site; www.nist.gov/oles/forensics/. For this reason, comments should not include confidential, proprietary, or business sensitive information.

FOR FURTHER INFORMATION CONTACT: For questions about this Notice contact: Susan Ballou, Office of Special Programs, National Institute of Standards and Technology, 100 Bureau Drive, Mailstop 8102, Gaithersburg, MD 20899, telephone (301) 975-8750; email susan.ballou@nist.gov. Please direct media inquiries to the NIST's Office of Public Affairs, Media Liaison, Ms. Jennifer Huergo, utilizing the email address: Jennifer.huergo@nist.gov.

SUPPLEMENTARY INFORMATION: On September 27, 2013, the National Institute of Standards and Technology (NIST) announced that it was soliciting input for possible models for the administration and support of discipline-specific guidance groups for Forensic Science (78 FR 59654). That Notice of Inquiry may be found at https://www.federalregister.gov/articles/2013/09/27/2013-23617. Due to the lack of availability of information posted on the NIST Web site, and the lack of NIST staff to respond to questions during the recent government shutdown due to a lapse in appropriations, the public may not have been able to formulate or submit their input. To allow the public sufficient time to formulate and submit their comments, NIST is extending the comment period from 11:59 p.m. Eastern Time, November 12, 2013, to 11:59 p.m. Eastern Time on November 26, 2013.

Dated: November 5, 2013.
Kevin Kimball,
NIST Chief of Staff.

[FR Doc. 2013-27156 Filed 11-12-13; 8:45 am]

BILLING CODE 3510-13-P